DEPARTMENT OF DEFENSE

Department of the Army

Privacy Act of 1974; System of Records

AGENCY: Department of the Army, DoD.

ACTION: Notice to Amend Systems of Records.

SUMMARY: The Department of the Army is amending a system of records notice in its existing inventory of records systems subject to the Privacy Act of 1974, (5 U.S.C. 552a), as amended.

DATES: This proposed action will be effective without further notice on December 28, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records systems being amended are set forth below followed by the notice, as amended, published in there entirety. The proposed amendments are not within the purview of subsection (r) of the Privacy Act of 1974, (5 U.S.C. 552a), as amended, which requires the submission of a new or altered system report.

Dated: November 19, 2001.
L.M. Bynum,
Alternate OSD Federal Register Liaison Officer, Department of Defense.

A0600-200 TAPC

System Name:

Classification, Reclassification, Utilization of Soldiers (February 22, 1993, 58 FR 10002).

Changes:

System Identifier:

Delete entry and replace with ‘A0614-200 TAPC’.

System Name:

Delete entry and replace with ‘Classification and Reclassification of Soldiers’.

System Location:

Delete entry and replace with ‘U.S. Total Army Total Personnel Command, Reclassification Management Branch, 2461 Eisenhower Avenue, Alexandria, VA 22331-0400.’

Categories of Individuals Covered by the System:

Delete entry and replace with ‘Active duty Army, Army National Guard and U.S. Army Reserve enlisted members on active duty’.

Categories of Records in the System:

Add to entry ‘Personnel Actions Request, Enlisted Records Brief, MOS and Medical retention board documents and other related documents.’ Delete from entry ‘evaluation test data, Enlistee Evaluation Report data’.

* * * * *

Storage:

Add to entry ‘and electronic storage media’.

Retrievability:

Add ‘Social Security Number’.

Retention and Disposal:

Delete entry and replace with ‘MOS classification board proceeding documents and related information maintain for 2 years then destroy’.

* * * * *

Record Source Categories:

Add to entry ‘automated personnel systems’.

* * * * *

A0614-200 TAPC

System Name:

Classification and Reclassification of Soldiers.

System Location:

U.S. Total Army Total Personnel Command, Reclassification Management Branch, 2461 Eisenhower Avenue, Alexandria, VA 22331-0400.

Categories of Individuals Covered by the System:

Active duty Army, Army National Guard and U.S. Army Reserve enlisted members on active duty.

Categories of Records in the System:

File contains name, Social Security Number, grade, military occupational specialty (MOS), additional information substantiating the soldier's or Army's request for exception to or interpretation of regulatory guidance for the classification, reclassification or utilization of soldiers, Personnel Actions Request, Enlisted Records Brief, MOS and Medical retention board documents and other related documents.

Authority for Maintenance of the System:

10 U.S.C. 3013, Secretary of the Army; Army Regulation 614-200, Enlisted Assignments and Utilization Management; and E.O. 9397 (SSN).

Purpose(s):

To perform the objective of maintaining a balance of authorization versus requirements by military occupational specialty within each career management field.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders and electronic storage media.

Retrievability:

By individual's Social Security Number and surname.

Safeguards:

Records are accessed only by designated officials having official need therefore in the performance of official duties. Records are kept in file cabinets in locked rooms. Building housing records are protected by security guards.

Retention and Disposal:

MOS classification board proceeding documents and related information maintain for 2 years then destroy.

System Manager(s) and Address:

Commander, Total Army Personnel Command, Reclassification Management Branch, 2461 Eisenhower Avenue, Alexandria, VA 22331-0400.

Notification Procedure:

Individuals seeking to determine if information about themselves is contained in this record system should address written inquiries to the Commander, Total Army Personnel Command, Public Affairs Office, Freedom of Information Act and Privacy Act, 200 Stovall Street, Alexandria, VA 22332-0400.

Individual should provide the full name, Social Security Number, current address, and signature.

Record Access Procedures:

Individuals seeking access to records about themselves contained in this record system should address written inquiries to the Commander, Total Army Personnel Command, Public Affairs Office, Freedom of Information Act and Privacy Act, 200 Stovall Street, Alexandria, VA 22332-0400

Individual should provide the full name, Social Security Number, current address, and signature.

Contesting Record Procedures:

The Army's rules for accessing records, and for contesting contents and appealing initial agency determinations are contained in Army Regulation 340-21; 32 CFR part 505; or may be obtained from the system manager.

Record Source Categories:

From the individual, Army personnel records and reports, and automated personnel systems.

Exemptions Claimed for the System:

None.

[FR Doc. 01-29565 Filed 11-27-01; 8:45 am]

BILLING CODE 5001-08-P